DEPARTMENT OF ENERGY

Federal Energy Regulatory Commission

[Project No. 382-076]

Southern California Edison Company; Notice of Application for Amendment of License and Soliciting Comments, Motions To Intervene, and Protests

February 6, 2009.

Take notice that the following hydroelectric application has been filed with the Commission and is available for public inspection:

a. Application Type: Amendment to Boating Flow Augmentation Plan.

b. Project No.: 382-076.

c. Date Filed: January 16, 2009.

d. Applicant: Southern California Edison Company.

e. Name of Project: Borel Hydroelectric Project.

f. Location: The proposal would be located on the Kern River, in Kern County, California. The project occupies almost 189 acres of Federal lands; 159.24 acres are within the Sequoia National Forest and administered by the U.S. Forest Service, and 29.47 acres are administered by the Bureau of Land Management.

g. Filed Pursuant to: Federal Power Act, 16 U.S.C. 791a-825r.

h. Applicant Contact: Candace Irelan, Southern California Edison Co., 300 No. Lone Hill Ave, San Dimas, CA 91773; (909) 394-8714; Candace.irelan@sce.com.

i. FERC Contact: Gina Krump, Telephone (202) 502-6704, and e-mail: Gina.Krump@ferc.gov.

j. Deadline for Filing Comments, Motions to Intervene, and Protest: March 6, 2009.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Southern California Edison Company (SCE) is requesting to amend article 402 of the project license. Article 402 requires SCE to develop a plan for boating flow augmentation within the Borel Project diverted reach, enter into an agreement with the U.S. Army Corps of Engineers (COE) and the Kern River Watermaster to implement the plan, and consult with interested parties on the plan. In lieu of the plan, SCE proposes to provide the U.S. Forest Service (FS) funding for improvements to recreational facilities located at the Democrat Dam Boating Take-out, located outside the project boundary on FS lands. SCE proposes to construct an improved boat exit ramp for commercial boaters, a new take-out ramp for private boaters, and improvements to the parking area adjacent to the take-out ramps. Among others, SCE consulted with the FS, COE, U.S. Fish and Wildlife Service, and state and local agencies on its application.

l. Locations of the Application: A copy of the application is available for inspection and reproduction at the Commission's Public Reference Room, located at 888 First Street, NE., Room 2A, Washington, DC 20426, or by calling (202) 502-8371. This filing may also be viewed on the Commission's website at http://www.ferc.gov using the “eLibrary” link. Enter the docket number excluding the last three digits in the docket number field to access the document. You may also register online at http://www.ferc.gov/docs-filing/esubscription.asp to be notified via e-mail of new filings and issuances related to this or other pending projects. For assistance, call (866) 208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-3227 Filed 2-13-09; 8:45 am]

BILLING CODE 6717-01-P